FEDERAL COMMUNICATIONS COMMISSION

[WC Docket No. 02-60; DA 04-2347]

Deadline for Completing Funding Year 2003 Application Process for Rural Health Care

AGENCY: Federal Communications Commission.

ACTION: Notice.

SUMMARY: This document announces the deadline for completing Rural Health Care program applications by filing the FCC Form 466, for those rural health care providers seeking discounts for Funding Year 2003 under the rural health care universal service support mechanism.

DATES: Filing deadline is September 20, 2004.

FOR FURTHER INFORMATION CONTACT: Gina Spade, Assistant Chief, Telecommunications Access Policy Division, Wireline Competition Bureau (202) 418-7400, TTY (202) 418-0484.

SUPPLEMENTARY INFORMATION: September 20, 2004, is the final deadline for filing FCC Form 466 for rural health care providers seeking discounts for Funding Year 2003 under the rural health care universal service support mechanism. Form 466 informs the Rural Health Care Division (RHCD) of the Universal Service Administrative Company that the health care provider has entered into an agreement with a tele­communi­cations carrier for a service eligible for universal service support. Those entities that have applied for support for Funding Year 2003 (July 1, 2003-June 30, 2004) must have their completed FCC Form 466 packet postmarked by September 20, 2004.

The completed FCC Form 466 must include the following:

(1) FCC Form 466 (Services Ordered and Certification Form), completed by the health care provider;

(2) contract document or tariff designation, provided by either the health care provider or telecommunications carrier; and

(3) if the health care provider is seeking support based on an urban/rural rate comparison, documentation must be included to show the rate for the selected service(s) in the nearest city of 50,000 or more within the state.

The forms and accompanying instructions may be obtained at the RHCD Web site http://www.rhc.universalservice.org/forms/default.asp#2003. Parties with questions or in need of assistance with the filing of their applications should contact RHCD's Customer Service Support Center at 1-800-229-5476.

Federal Communications Commission.
Gina Spade,
Assistant Chief, Telecommunications Access Policy Division, Wireline Competition Bureau.

[FR Doc. 04-18143 Filed 8-6-04; 8:45 am]

BILLING CODE 6712-01-P